FEDERAL ACCOUNTING STANDARDS ADVISORY BOARD

Notice of New Interpretation of Federal Financial Accounting Standards, Accounting for Imputed Intra-Departmental Costs: An Interpretation of SFFAS No. 4

Board Action: Pursuant to the Federal Advisory Committee Act (Pub. L. No. 92-463), as amended, and the FASAB Rules of Procedure, as amended in October, 1999, notice is hereby given that the Federal Accounting Standards Advisory Board (FASAB) has issued a new Interpretation, Accounting for Imputed Intra-Departmental Costs: An Interpretation of SFFAS No. 4.

A summary of the Interpretation follows: On April 18, 2003, the Federal Accounting Standard Advisory Board (FASAB) issued Interpretation No. 6, Accounting for Imputed Intra-Departmental Costs: An Interpretation of SFFAS No. 4. The proposed interpretation clarifies that paragraph 110 of SFFAS No. 4 does not limit the recognition of imputed intra-departmental costs. The interpretation further explains that intra-departmental costs should be accounted for in accordance with the full cost of provisions of SFFAS No. 4, which includes the recognition of imputed intra-departmental costs.

The interpretation is available on the FASAB Home page http://www.fasab.gov/interpretations.htm. Copies can be obtained by contacting FASAB at (202) 512-7350, or loughanm@fasab.gov.

Wendy M. Comes, Executive Director, Federal Accounting Standards Advisory Board, 441 G Street, NW., Suite 6814, Mail Stop 6K17V, Washington, DC 20548.

For Further Information, Contact: Wendy Comes, Executive Director, 441 G Street, NW., Washington, DC 20548, or call (202) 512-7350.

Authority: Federal Advisory Committee Act, Pub. L. No. 92-463.

Dated: April 28, 2003.
Wendy M. Comes,
Executive Director.

[FR Doc. 03-10796 Filed 4-30-03; 8:45 am]

BILLING CODE 1610-01-M